DEPARTMENT OF HEALTH AND HUMAN SERVICES

Centers for Disease Control and Prevention

[Program Announcement 01149]

Expansion of HIV/AIDS/STD Surveillance, Care, and Prevention Activities in the Republic of Zimbabwe; Notice of Availability of Funds

A. Purpose

The Centers for Disease Control and Prevention (CDC) announces the availability of fiscal year (FY) 2001 funds for a cooperative agreement with the Republic of Zimbabwe Ministry of Health and Child Welfare (MOHCW) for the improvement and expansion of surveillance, care, and prevention activities targeting HIV/AIDS and HIV/AIDS-related conditions in Zimbabwe.

The U.S. Government seeks to reduce the impact of HIV/AIDS and related conditions in specific countries within sub-Saharan Africa, Asia, and the Americas through its Leadership and Investment in Fighting an Epidemic (LIFE) initiative. Through this program, CDC has initiated its Global AIDS Program (GAP) to strengthen capacity and expand activities in the areas of (1) HIV primary prevention; (2) HIV care, support, and treatment; and (3) capacity and infrastructure development, especially for surveillance. Targeted countries represent those with the most severe epidemics and the highest number of new infections. They also represent countries where the potential for impact is greatest and where U.S. Government agencies are already active. Zimbabwe is one of these targeted countries.

To carry out its activities in these countries, CDC is working in a collaborative manner with national governments and other agencies to develop programs of assistance to address the HIV/AIDS epidemic. CDC's program of technical assistance to Zimbabwe focuses on several areas, including strengthening surveillance and laboratory measures, scaling up promising prevention and care strategies, supporting behavior change communication projects, promoting technology transfer, and other capacity building efforts.

Zimbabwe is experiencing one of the world's most severe AIDS crises that looms as a disaster of unprecedented proportions. Zimbabwe has one of the world's highest HIV prevalence rates among adults, and the proportion of children orphaned by AIDS is expected to reach 35 percent by 2010.

Zimbabwe has taken many positive steps to address the AIDS epidemic. It was one of the first governments in the world to negotiate a large World Bank loan for AIDS prevention in 1992. The national response has generated many examples of creative programming and successful grassroots initiatives in the face of staggering adversity. In December 1999, the Government of Zimbabwe (GOZ) declared AIDS a national disaster, created a new ministerial-level, multi-sectoral National AIDS Council (NAC), announced a new National AIDS Policy and instituted an “AIDS levy” payroll tax to underwrite improved national AIDS prevention and care services.

However, despite these and others interventions, the prevalence of HIV infection appears to have increased substantially in Zimbabwe from 1997 to 2000, and the epidemic cannot yet be characterized as having stabilized. High prevalence rates among women 15-19 yrs of age suggests that recent infections continue to be high, including among youth. In addition, Zimbabwe is facing economic and political crises which compete for attention with and directly impact current responses to the AIDS epidemic.

Surveillance needs to be strengthened and expanded to include behavioral surveillance (especially among youth), and extended to other population groups such as young men, both in and out of school. HIV, STI and TB prevention and care efforts, including public health laboratory services, need to be urgently strengthened as a top national priority, and a strengthened system established for monitoring and evaluating those efforts and tracking progress toward control and reversal of the epidemic.

The purpose of this cooperative agreement is therefore to improve and expand HIV/AIDS surveillance, care, and prevention capacity and activities in Zimbabwe, which will be accomplished through cooperation between CDC and the MOHCW of Zimbabwe. These collaborative activities could profoundly impact the scope and intensity of the implementation of the National AIDS Policy. Cooperative efforts could lead to significant improvements in the collection of critical data to support future action, a better understanding of the association between specific behaviors and HIV prevalence, improved and more responsive systems of care, and strengthened aspects of the public health infrastructure.

B. Eligible Applicants

Assistance will be provided only to the MOHCW of GOZ. No other applications are solicited.

The MOHCW is the only appropriate and qualified organization to fulfill the requirements set forth in this announcement because:

1. The MOHCW is uniquely positioned, in terms of constitutional authority, mandate and ability to oversee and safeguard public health, and to collect and analyze information and disseminate surveillance and health system performance reports related to the prevalence and incidence of HIV/AIDS, HIV/AIDS-related conditions and other health issues.

2. The MOHCW has in place the central, provincial and district-based structures required to immediately engage in the activities listed in this announcement.

3. The MOHCW is directly responsible for the implementation, monitoring and evaluation of population-based HIV/AIDS prevention and care policies and services.

C. Availability of Funds

Approximately $300,000 is available in FY 2001 to fund this agreement. It is expected that the award will begin on or about September 30, 2001 and will be made for a 12-month budget period within a project period of five years. Annual funding estimates may change. Continuation awards within the approved project period will be made on the basis of satisfactory progress as evidenced by required reports and the availability of funds.

Direct Assistance

Direct provision of equipment and supplies (e.g., vehicles, computer hardware/software, specific consumables & supplies) may be requested as direct assistance in lieu of a portion of this financial assistance.

Use of Funds

Funds received from this announcement may not be used for the direct purchase of drugs for the treatment of active TB disease.

Antiretroviral Drugs

Funds received from this announcement will not be used for the purchase of antiretroviral drugs for treatment of established HIV infection (with the exception of nevirapine in PMTCT cases and with prior written approval), occupational exposures, and non-occupational exposures and will not be used for the purchase of machines and reagents to conduct the necessary laboratory monitoring for patient care.

Applicants may contract with other organizations under these cooperative agreements, however, applicants must perform a substantial portion of the activities (including program management and operations and delivery of prevention services for which funds are requested).

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the United States or to international organizations regardless of their location.

All requests for funds, including the budget contained in the application, shall be stated in U.S. dollars. Once an award is made, the Department of Health and Human Services (DHHS) will not compensate foreign grantees for currency exchange fluctuations through the issuance of supplemental awards.

Needle Exchange

No funds appropriated under this Act shall be used to carry out any program of distributing sterile needles or syringes for the hypodermic injection of any illegal drug.

D. Where To Obtain Additional Information

This and other CDC announcements can be found on the CDC home page Internet address—http://www.cdc.gov. Click on “Funding” then “Grants and Cooperative Agreements.”

If you have questions after reviewing the contents of all the documents, business management technical assistance may be obtained from: Dorimar Rosado, Grants Management Specialist, Grants Management Branch, Procurement and Grants Office, Centers for Disease Control and Prevention, Room 3000, 2920 Brandywine Road, Atlanta, GA 30341-4146, Telephone: (770) 488-2782, E-mail: dpr7@cdc.gov.

For program technical assistance, contact: Michael St. Louis, MD, Global AIDS Program (GAP), Zimbabwe Country Team, National Center for HIV, STD, and TB Prevention, Centers for Disease Control and Prevention (CDC), Zim-CDC AIDS Project Team 38 Samora Machel Avenue, 2nd Floor, Harare, Zimbabwe, Telephone: 263 4 796040, 796048, Fax: 263 4 796032, E-mail: stlouism@zimcdc.co.zw.

Dated: July 19, 2001.
John L. Williams,
Director, Procurement and Grants Office, Centers for Disease Control and Prevention (CDC).

[FR Doc. 01-18463 Filed 7-24-01; 8:45 am]

BILLING CODE 4163-18-P